DEPARTMENT OF TRANSPORTATION

Federal Transit Administration

[Docket Number: FTA-2009-0009]

Notice of Availability of Proposed Guidance for New Starts/Small Starts Policies and Procedures and Request for Comments

AGENCY: Federal Transit Administration (FTA), DOT.

ACTION: Notice of availability and request for comments.

SUMMARY: This notice announces the availability of, and requests comments on, the Federal Transit Administration's (FTA) Proposed Guidance on New Starts/Small Starts Policies and Procedures. The proposed guidance presents weights to be assigned for the six project justification criteria for New Starts and the three project justification criteria for Small Starts in the project evaluation process. FTA also proposes a process to ensure that the impacts of tunnels are considered in project evaluation.

DATES: Comments on the Proposed Guidance on New Starts/Small Starts Policies and Procedures must be received by June 19, 2009. Late filed comments will be considered to the extent practicable.

ADDRESSES: You may submit comments [identified by the Docket Number FTA-2009-0009] by any of the following methods:

Web site: http://regulations.gov. Follow the instructions for submitting comments on the DOT electronic docket site.

Fax: 202-493-2251.

Mail: U.S. Department of Transportation, Docket Operations, M-30, West Building Ground Floor, Room W12-140, 1200 New Jersey Ave., SE., Washington, DC 20590.

Hand Delivery: U.S. Department of Transportation, Docket Operations, M-30, West Building Ground Floor, Room W12-140, 1200 New Jersey Ave., SE., Washington, DC 20590, between 8:30 a.m. and 5 p.m., Monday through Friday, except Federal Holidays.

Instructions: You must include the agency name (Federal Transit Administration) and the docket number (FTA-2009-0009). You should submit two copies of your comments if you submit them by mail. If you wish to receive confirmation that FTA received your comments, you must include a self-addressed stamped postcard. Note that all comments received will be posted without change to the Federal government Web site located at http://regulations.gov. This means that if your comment includes any personal identifying information, such information will be made available to users of Web site.

FOR FURTHER INFORMATION CONTACT: Elizabeth Day, Office of Planning and Environment, telephone (202) 366-5159 and Christopher Van Wyk, Office of Chief Counsel, telephone (202) 366-1733. FTA is located at 1200 New Jersey Ave., SE., East Building, Washington, DC 20590. Office hours are from 8:30 a.m. to 5 p.m., Monday through Friday, except Federal holidays.

SUPPLEMENTARY INFORMATION: The proposed changes described in the policy guidance made available by this notice have been necessitated by the Safe, Accountable, Flexible, Efficient Transportation Equity Act—A Legacy for Users (SAFETEA-LU) Technical Corrections Act of 2008 (Pub. L. 110-244), which amends 49 U.S.C. 5309. The Act specifies that each of the project justification criteria for proposed New Starts and Small Starts projects should be given “comparable, but not necessarily equal, numerical weight * * * in calculating the overall project rating.” The guidance proposes to set the weights at 20 percent each for the mobility, cost-effectiveness, land use, and economic development criteria, and 10 percent each for the operating efficiencies and environmental benefits criteria for New Starts projects. Each of the three project justification criteria for Small Starts (land use, economic development and cost-effectiveness) would be set at a third each.

The Act further states that the Secretary of Transportation shall analyze, evaluate, and consider the congestion relief, improved mobility, and other benefits of tunnels in transit projects that include a transit tunnel, as well as the associated ancillary and mitigation costs necessary to relieve congestion, improve mobility, and decrease air and noise pollution in those projects that do not include a tunnel but where a transit tunnel was one of the alternatives analyzed. FTA proposes to require that project sponsors develop and consider such information during alternative analysis studies. FTA will ensure that such information has been addressed as part of the FTA review of project applications for entry into preliminary engineering.

FTA will respond to comments received on the proposed guidance in a second Federal Register notice to be published after the close of the comment period. That notice will describe any changes made to the weights for project justification criteria and to the process for consideration of tunnel alternatives in response to comments received.

FTA requests comments on the policy guidance, which is available in DOT's electronic docket at http://regulations.gov and on FTA's Web site at http://www.fta.dot.gov/planning/newstarts/planning_environment_5615.html.

Issued this May 14, 2009, in Washington, DC.
Matthew J. Welbes,
Acting Deputy Administrator.

[FR Doc. E9-11718 Filed 5-19-09; 8:45 am]

BILLING CODE P